DEPARTMENT OF HEALTH AND HUMAN SERVICES

National Institutes of Health

Center for Scientific Review; Amended Notice of Meeting

Notice is hereby given of a change in the meeting of the Center for Scientific Review Special Emphasis Panel, October 17, 2013, 08:00 a.m. to October 18, 2013, 05:00 p.m., The Dupont Hotel, 1500 New Hampshire Avenue NW., Washington, DC 20036, which was published in the Federal Register on September 20, 2013, 78 FR 183 Pgs. 57866-57867.

The meeting will start on December 9, 2013 at 8:00 a.m. and end December 9, 2013 at 7:00 p.m. The meeting location remains the same. The meeting is closed to the public.

Dated: October 29, 2013.
Melanie J. Gray,
Program Analyst, Office of Federal Advisory Committee Policy.

[FR Doc. 2013-26150 Filed 11-1-13; 8:45 am]

BILLING CODE 4140-01-P